DEPARTMENT OF COMMERCE

National Oceanic and Atmospheric Administration

RIN 0648-XD059

New England Fishery Management Council; Public Meeting

AGENCY: National Marine Fisheries Service (NMFS), National Oceanic and Atmospheric Administration (NOAA), Commerce.

ACTION: Notice; public meeting.

SUMMARY: The New England Fishery Management Council's (Council) Recreational Advisory Panel and their Groundfish Oversight Committee will meet to consider actions affecting New England fisheries in the exclusive economic zone (EEZ).

DATES: The meetings will be held on Wednesday, January 22, 2014 at 9 a.m. and Thursday, January 23, 2014 at 9 a.m.

ADDRESSES: Meeting address: The meetings will be held at the DoubleTree Hotel Boston North Shore, 50 Ferncroft Road, Danvers, MA 01923; telephone: (978) 777-2500; fax: (978) 750-7991.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion in the committee's agenda are as follows:

Wednesday, January 22, 2014 Beginning at 9 a.m.

The Recreational Advisory Panel (RAP) will meet to have a discussion of Habitat Omnibus Amendment 2 management alternatives related to the recreational groundfish fishery. Also on the agenda will be a discussion of recreational accountability measures for Gulf of Maine cod and haddock. The Committee will receive a presentation from NERO staff on alternatives for an omnibus amendment to simplify vessel baseline restrictions. They will discuss and provide input on proposed analysis of the alternatives for the Environmental Assessment. Other business may be discussed.

Thursday, January 23, 2014 Beginning at 9 a.m.

The Groundfish Oversight Committee will meet to review groundfish fishery management plan priorities for 2014. Also on the agenda is to review Plan Development Team work related to the development of Amendment 18 and discuss potential measures. Other business may be discussed as necessary.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Thomas A. Nies (see ADDRESSES) at least 5 days prior to the meeting date.

Authority: 16 U.S.C. 1801 et seq.

Dated: December 30, 2013.
William D. Chappell,
Acting Deputy Director, Office of Sustainable Fisheries, National Marine Fisheries Service.

[FR Doc. 2013-31522 Filed 1-3-14; 8:45 am]

BILLING CODE 3510-22-P